DEPARTMENT OF HOMELAND SECURITY

Federal Emergency Management Agency

U.S. Fire Administration Emergency Management Institute Board of Visitors

AGENCY: Federal Emergency Management Agency, Emergency Preparedness and Response Directorate, Department of Homeland Security.

ACTION: Committee management: Notice of committee re-establishment.

SUMMARY: The Secretary of the Department of Homeland Security has determined that the re-establishment of the U.S. Fire Administration Board of Visitors for the Emergency Management Institute is necessary and in the public interest in connection with the performance of the duties of the Under Secretary of the Emergency Preparedness and Response Directorate. This determination follows consultation with the Committee Management Secretariat, General Services Administration.

Name of Committee: Board of Visitors for the Emergency Management Institute.

Purpose and Objectives: The board shall review the programs of the Emergency Management Institute (EMI) and make comments and recommendations to the Administrator, United States Fire Administration (USFA), as delegated by the Under Secretary, Emergency Preparedness and Response (EP&R), regarding the operations of the Institute and any improvements therein which the Board deems appropriate.

In carrying out their responsibilities, the Board may include in their review a discussion of the Institute's programs to determine whether these programs further the basic mission of EMI and other appropriate subject areas that are related to the effectiveness of the delivery of the Institute's programs.

The Board shall draw on the expertise of its members and, with the approval of the Superintendent, EMI, such other experts as may be considered appropriate in order to provide advice and make recommendations to the Superintendent.

The Board shall function solely as an advisory board and comply fully with the provisions of the Federal Advisory Committee Act (Public Law 92-463).

Balanced Membership Plans: The Board of Visitors will be comprised of nine members, including a chairperson. The Secretary shall appoint the members of the Board from the nominations of qualified persons submitted by the Superintendent, EMI. The members of the Board shall be selected from among professionals in the fields of emergency management, education, public administration, industry, and from such professional organizations as will ensure a balanced representation of interest.

Duration: The Board shall function on continuing basis in accordance with the statute unless terminated through appropriate action by the proper authority.

Responsible DHS Official: Mr. R. David Paulison, U.S. Fire Administrator, 16825 South Seton Avenue, Emmitsburg, MD 21727.

Contact for Information: Loretta Arscott, National Emergency Training Center, Emergency Management Institute, 16825 South Seton Avenue, Emmitsburg, MD 21727, 301-447-1286.

Dated: December 14, 2004.
Michael D. Brown,
Under Secretary, Emergency Preparedness and Response, Department of Homeland Security.

[FR Doc. 04-27753 Filed 12-17-04; 8:45 am]

BILLING CODE 9110-17-P